DEPARTMENT OF COMMERCE

International Trade Administration

[C-489-823]

Welded Line Pipe From Turkey: Rescission, in Part, of Countervailing Duty Administrative Review; 2015

AGENCY: Enforcement and Compliance, International Trade Administration, Department of Commerce.

SUMMARY: On February 13, 2017, the Department of Commerce (Department) initiated an administrative review of the countervailing duty order on welded line pipe from the Republic of Turkey (Turkey) for nineteen companies. Based on timely withdrawal of requests for review, we are now rescinding this administrative review with respect to 17 of these companies.

DATES: Effective May 9, 2017.

FOR FURTHER INFORMATION CONTACT: Andrew Medley or Whitley Herndon, AD/CVD Operations, Office II, Enforcement and Compliance, International Trade Administration, U.S. Department of Commerce, 1401 Constitution Avenue NW., Washington, DC 20230; telephone: (202) 482-4987 or (202) 482-6274, respectively.

Background

In December 2016 and January 2017, the Department received multiple timely requests to conduct an administrative review of the antidumping duty order on welded line pipe from Turkey. Based upon these requests, on February 13, 2017, in accordance with section 751(a) of the Tariff Act of 1930, as amended (the Act), the Department published a notice of initiation of an administrative review with respect to nineteen companies for the period March 20, 2015, through December 31, 2015.¹

¹ See Initiation of Antidumping and Countervailing Duty Administrative Reviews, 82 FR 10457, 10465 (February 13, 2017).

On March 2, 2017, Maverick Tube Corporation (Maverick), Stupp Corporation, a division of Stupp Bros., Inc. (Stupp Corp.) and American Cast Iron Pipe Company (ACIPCO) timely withdrew their requests for a review of all the companies with the exception of two companies, Borusan Istikbal Ticaret and Borusan Mannesmann Boru Sanayi ve Ticaret A.S.²

² See Letter from Maverick to the Department, “Welded Line Pipe from the Republic of Turkey: Withdrawal of Request for Administrative Review,” dated March 2, 2017. See also Letter from Stupp Corp. and ACIPCO to the Department, “Welded Line Pipe from the Republic of Turkey: Withdrawal of Request for Administrative Review,” dated March 2, 2017.

Partial Rescission of Review

Pursuant to 19 CFR 351.213(d)(1), the Secretary will rescind an administrative review, in whole or in part, if a party who requested the review withdraws the request within 90 days of the date of publication of notice of initiation of the requested review. All the aforementioned withdrawal requests were timely submitted, and no other interested party requested an administrative review of these particular companies. Therefore, in accordance with 19 CFR 351.213(d)(1), we are rescinding this review of the countervailing duty order on welded line pipe from Turkey, in part, with respect to the seventeen companies named in the appendix.

Assessment

The Department will instruct U.S. Customs and Border Protection (CBP) to assess countervailing duties on all appropriate entries. For the seventeen companies named in Appendix I for which these reviews are rescinded, countervailing duties shall be assessed at rates equal to the cash deposit of estimated countervailing duties required at the time of entry, or withdrawal from warehouse, for consumption, in accordance with 19 CFR 351.212(c)(1)(i). The Department intends to issue appropriate assessment instructions to CBP 15 days after publication of this notice.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751 and 777(i)(1) of the Act, and 19 CFR 351.213(d)(4).

Dated: May 3, 2017.
Gary Taverman,
Associate Deputy Assistant Secretary for Antidumping and Countervailing Duty Operations.

Appendix

Companies for Which the Administrative Review Is Rescinded

Cayirova Boru Sanayii ve Ticaret A.S.

Cimtas Boru Imalatlari ve Ticaret, Ltd. Sti.

Emek Boru Makina Sanayi ve Ticaret A.S.

Erbosan Erciyas Tube Industry and Trade Co. Inc.

Erciyas Celik Boru Sanayii A.S.

Guven Celik Boru Sanayii ve Ticaret Ltd. Sti.

Has Altinyagmur celik Boru Sanayii ve Ticaret Ltd. Sti.

HDM Steel Pipe Industry & Trade Co. Ltd.

Metalteks Celik Urunleri Sanayii

MMZ Onur Boru Profil Uretim Sanayii ve Ticaret A.S.

Noksel Steel Pipe Co. Inc.

Ozbal Celik Boru

Toscelik Profile and Sheet Industry, Co.

Tosyali Dis Ticaret A.S.

Umran Celik Boru Sanayii

YMS Pipe & Metal Sanayii A.S.

Yucelboru Ihracat Ithalat Pazzarlam

[FR Doc. 2017-09356 Filed 5-8-17; 8:45 am]

BILLING CODE 3510-DS-P